FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012338-001.

Title: Sealand/APL Caribbean Slot Charter Agreement.

Parties: Maersk Line A/S DBA Sealand; and APL Co. Pte Ltd. and American President Lines, Ltd.

Filing Party: Wayne Rohde; Cozen O'Connor; 1200 Nineteenth Street NW.; Washington, DC 20036.

Synopsis: The amendment deletes Costa Rica from the geographic scope of the Agreement, reduces the amount of space chartered, and adjusts the minimum the duration of Agreement.

Agreement No.: 012446.

Title: Sealand/APL Central America Slot Charter Agreement.

Parties: Maersk Line A/S DBA Sealand; and APL Co. Pte Ltd. and American President Lines, Ltd.

Filing Party: Wayne Rohde; Cozen O'Connor; 1200 Nineteenth Street NW.; Washington, DC 20036.

Synopsis: The Agreement authorizes Sealand to charter space to APL in the trade between the U.S. East Coast and ports in Panama, Costa Rica, and Colombia.

Agreement No.: 012447.

Title: THE Alliance/Zim MED-USEC Slot Exchange Agreement.

Parties: Hapag-Lloyd AG; Nippon Yusen Kaisha; Mitsui O.S.K. Lines, Ltd.; Kawasaki Kisen Kaisha, Ltd.; Yang Ming Marine Transport Corp.; Zim Integrated Shipping Services Limited.

Filing Party: Joshua Stein; Cozen O'Connor; 1200 Nineteenth Street NW.; Washington, DC 20036.

Synopsis: The Agreement authorizes the Parties to exchange slots on their respective services in the Agreement trade and to enter into cooperative working arrangements in connection therewith.

By Order of the Federal Maritime Commission.
Dated: December 9, 2016.
Rachel E. Dickon,
Assistant Secretary.

[FR Doc. 2016-30022 Filed 12-13-16; 8:45 am]

BILLING CODE 6731-AA-P